FEDERAL HOUSING FINANCE AGENCY

12 CFR Part 1238

[No. 2013-N-17]

Orders: Reporting by Regulated Entities of Stress Testing Results as of September 30, 2013; Revision and Amendments to Summary Instructions and Guidance

AGENCY: Federal Housing Finance Agency.

ACTION: Orders.

SUMMARY: In this document, the Federal Housing Finance Agency (FHFA) is issuing Orders to further supplement the final rule implementing section 165(i)(2) of the Dodd-Frank Wall Street Reform and Consumer Protection Act (Dodd-Frank Act), and appeared in the Federal Register of September 26, 2013, at 78 FR 59219. FHFA also is amending the Summary Instructions and Guidance, which accompanied the Orders.

DATES: Each Order is effective November 26, 2013.

FOR FURTHER INFORMATION CONTACT: Naa Awaa Tagoe, Senior Associate Director, Office of Financial Analysis, Modeling and Simulations, (202) 649-3140, naaawaa.tagoe@fhfa.gov; Stefan Szilagyi, Examination Manager, FHLBank Modeling, FHLBank Risk Modeling Branch, (202) 649-3515, stefan.szilagy@fhfa.gov; or Mark D. Laponsky, Deputy General Counsel, Office of General Counsel, (202) 649-3054 (these are not toll-free numbers), mark.laponsky@fhfa.gov. The telephone number for the Telecommunications Device for the Hearing Impaired is (800) 877-8339.

SUPPLEMENTARY INFORMATION:

I. Background

FHFA is responsible for ensuring that the regulated entities operate in a safe and sound manner, including the maintenance of adequate capital and internal controls, that their operations and activities foster liquid, efficient, competitive, and resilient national housing finance markets, and that they carry out their public policy missions through authorized activities. See 12 U.S.C. 4513. These Orders are being issued under 12 U.S.C. 4514(a), which authorizes the Director of FHFA to require by Order that the regulated entities submit regular or special reports to FHFA and establishes remedies and procedures for failing to make reports required by Order. The Orders prescribe for the regulated entities the scenarios to be used for stress testing. The Summary Instructions and Guidance accompanying each Order provides to the regulated entities advice concerning the content and format of reports required by the Order and rule.

These Orders communicate to the regulated entities their reporting requirements under the framework established by the final rule, and the revised and amended Summary Instructions and Guidance that accompany each Order. These Orders also advise the regulated entities of the scenarios to be used for the stress testing.

II. Order, Summary Instructions and Guidance

For the convenience of the affected parties, the text of the Orders follows below in its entirety. You may access these Orders from FHFA's Web site at http://www.fhfa.gov/Default.aspx?Page=43. The Orders and Summary Instructions and Guidance will be available for public inspection and copying at the Federal Housing Finance Agency, Eighth Floor, 400 Seventh St. SW., Washington, DC 20024. To make an appointment, call (202) 649-3804.

The text of the Orders and the Summary Instructions and Guidance, as amended, is as follows:

Federal Housing Finance Agency

Order Nos. 2013-OR-B-2, 2013-OR-FNMA-2, and 2013-OR-FHLMC-2

Reporting by Regulated Entities of Stress Testing Results as of September 30, 2013

Whereas, section 165(i)(2) of the Dodd-Frank Wall Street Reform and Consumer Protection Act (“Dodd-Frank Act”) requires certain financial companies with total consolidated assets of more than $10 billion, and which are regulated by a primary Federal financial regulatory agency, to conduct annual stress tests to determine whether the companies have the capital necessary to absorb losses as a result of adverse economic conditions;

Whereas, FHFA's rule implementing section 165(i)(2) of the Dodd-Frank Act is codified as 12 CFR part 1238 and requires that “[e]ach regulated entity must file a report in the manner and form established by FHFA.” 12 CFR 1238.5(b);

Whereas, The Board of Governors of the Federal Reserve System issued stress testing scenarios on November 1, 2013, corrected on November 7, 2013, and supplemented on November 14, 2013; and

Whereas, section 1314 of the Safety and Soundness Act, 12 U.S.C. 4514(a) authorizes the Director of FHFA to require regulated entities, by general or specific order, to submit such reports on their management, activities, and operation as the Director considers appropriate.

Now therefore, it is hereby ordered as follows:

Each regulated entity shall report to FHFA and to the Board of Governors of the Federal Reserve System the results of stress testing as required by 12 CFR part 1238, in the form and with the content described therein and in the Summary Instructions and Guidance accompanying this Order and dated November 26, 2013, which replaces, amends, and supersedes the Summary Instructions and Guidance issued on September 9, 2013, to this Order, and using the scenarios provided in Appendices 1 through 10 to this Order.

This Order is effective immediately.

Signed at Washington, DC, this 26th day of November, 2013.
Sandra Thompson,
Deputy Director for Housing Mission and Goals By delegation.
Dated: December 2, 2013.
Edward J. DeMarco,
Acting Director, Federal Housing Finance Agency.

The Appendices to this order and amended Summary Instructions and Guidance are as follows:

BILLING CODE 8070-01-P

[FR Doc. 2013-30356 Filed 12-24-13; 8:45 am]

BILLING CODE 8070-01-C